DEPARTMENT OF COMMERCE

National Oceanic and Atmospheric Administration

Evaluation of State Coastal Management Program and National Estuarine Research Reserve

AGENCY: Office for Coastal Management (OCM), National Ocean Service (NOS), National Oceanic and Atmospheric Administration (NOAA), Department of Commerce (DOC).

ACTION: Notice of public meeting and opportunity to comment.

SUMMARY: The National Oceanic and Atmospheric Administration (NOAA), Office for Coastal Management will hold a public meeting to solicit comments on the performance evaluation of the Maryland Coastal Management Program and Chesapeake Bay Maryland National Estuarine Research Reserve.

DATES: NOAA will consider all written comments received by July 31, 2020. The virtual public meeting will be held on Wednesday July 22, 2020 at 12:00 p.m. EDT.

ADDRESSES: You may submit comments on the coastal management program and national estuarine research reserve NOAA intends to evaluate by emailing Carrie Hall, Evaluator, NOAA Office for Coastal Management at Carrie.Hall@noaa.gov. Comments that the Office for Coastal Management receives are considered part of the public record and may be publicly accessible. Any personal identifying information (e.g., name, address) submitted voluntarily by the sender may also be publicly accessible. NOAA will accept anonymous comments.

To participate in the public meeting Wednesday, July 22, 2020 at 12:00 p.m. EDT, registration is required one hour in advance by 11:00 a.m. EDT.

Registration: http://noaacsc.adobeconnect.com/cbmnerrpublicmeeting/event/event_info.html. You may participate online or by phone. If you would like to provide comment during the public meeting, please select “yes” during the online registration. The line-up of speakers will be based on your date and time of registration.

FOR FURTHER INFORMATION CONTACT: Carrie Hall, Evaluator, NOAA Office for Coastal Management by phone at (240) 533-0730 or email Carrie.Hall@noaa.gov. Copies of the previous evaluation findings, coastal management program's 2016-2020 Assessment and Strategy and reserve's management plan and site profile may be viewed and downloaded on the internet at http://coast.noaa.gov/czm/evaluations. A copy of the evaluation notification letter and most recent progress reports may be obtained upon request by contacting Carrie Hall.

SUPPLEMENTARY INFORMATION: Section 312 of the Coastal Zone Management Act (CZMA) requires NOAA to conduct periodic evaluations of federally approved state coastal programs and national estuarine research reserves. The process includes one or more public meetings, consideration of written public comments, and consultations with interested Federal, state, and local agencies and members of the public. For the evaluation of the Maryland Coastal Management Program NOAA will consider the extent to which the state has met the national objectives, adhered to the management program approved by the Secretary of Commerce, and adhered to the terms of financial assistance under the CZMA. For the evaluation of the Chesapeake Bay Maryland National Estuarine Research Reserve, NOAA will consider the extent to which the state has met the national objectives, adhered to its management plan approved by the Secretary of Commerce, and adhered to the terms of financial assistance under the Coastal Zone Management Act. When the evaluation is completed, NOAA's Office for Coastal Management will place a notice in the Federal Register announcing the availability of the Final Evaluation Findings.

Keelin Kuipers,
Deputy Director, Office for Coastal Management, National Ocean Service, National Oceanic and Atmospheric Administration.

[FR Doc. 2020-12874 Filed 6-15-20; 8:45 am]

BILLING CODE 3510-JE-P